DEPARTMENT OF THE INTERIOR

National Park Service

[NPS-WASO-NAGPRA-NPS0038300; PPWOCRADN0-PCU00RP14.R50000]

Notice of Inventory Completion: University of Tennessee, Department of Anthropology, Knoxville, TN, and Tennessee Department of Environment and Conservation, Division of Archaeology, Nashville, TN

AGENCY: National Park Service, Interior.

ACTION: Notice.

SUMMARY: In accordance with the Native American Graves Protection and Repatriation Act (NAGPRA), the University of Tennessee, Department of Anthropology (UTK) and the Tennessee Department of Environment and Conservation, Division of Archaeology (TDEC-DOA) have completed an inventory of human remains and associated funerary objects and has determined that there is a cultural affiliation between the human remains and associated funerary objects and Indian Tribes or Native Hawaiian organizations in this notice.

DATES: Repatriation of the human remains and associated funerary objects in this notice may occur on or after August 19, 2024.

ADDRESSES: Dr. Ellen Lofaro, University of Tennessee, Office of Repatriation, 5723 Middlebrook Pike, Knoxville, TN 37921-6053, telephone (865) 974-3370, email nagpra@utk.edu and Phillip R. Hodge, Tennessee Department of Environment and Conservation, Division of Archaeology, 1216 Foster Avenue, Cole Building #3, Nashville, TN 37243, telephone (615) 626-2025, email Phil.Hodge@tn.gov.

SUPPLEMENTARY INFORMATION: This notice is published as part of the National Park Service's administrative responsibilities under NAGPRA. The determinations in this notice are the sole responsibility of UTK and TDEC-DOA, and additional information on the determinations in this notice, including the results of consultation, can be found in their inventory or related records. The National Park Service is not responsible for the determinations in this notice.

Abstract of Information Available

Human remains representing, at least, 16 individuals have been identified. The 101 lots of associated funerary objects are 17 lots of lithics, 15 lots of faunal remains, 32 lots of floatation samples, 17 lots of charcoal, 15 lots of clay, three lots of hematite, and two lots of shell. These individuals were removed from 40GL26, the Bailey site, in Giles County, TN. The Bailey site was identified during an archeological survey by the Tennessee Department of Transportation (TDOT) due to proposed replacement of a bridge over Sugar Creek and relocation of part of State Route 11. TDOT applied for and received the required permits from TDEC-DOA. UTK was contracted to excavate and did so from May 20 to August 23, 1986. All cultural material and disinterred remains were transferred to UTK, where they have been housed since. While some of the human remains have been “repaired” using glue, to our knowledge, no known hazardous substances were used to treat any of the remains or objects.

Human remains representing at least, two individuals have been identified. The single associated funerary object is one lot of faunal remains. These individuals were removed from a mound in Giles County, TN, around 1970 and donated to UTK by Greg Rost on an unknown date prior to 2016. Given the location and site type, this unknown site could be part of 40GL14, the Potts site. To our knowledge, no known hazardous substances were used to treat any of the remains or objects.

Cultural affiliation between these human remains and funerary objects, and the Indian Tribes listed in this notice was established via historical information, geographical information, and oral tradition. Giles County, TN is part of lands ceded to the United States by the Chickasaw, as recorded in, Treaty with the Chickasaw, 1805. Giles County, TN is also part of lands ceded to the United States by the Cherokee, as recorded in, Treaty with the Cherokee, 1806, and Treaty with the Cherokee, 1807. Tribal oral tradition also establishes that Muscogee (Creek) Ancestors once inhabited Giles County.

Cultural Affiliation

Based on the information available and the results of consultation, cultural affiliation is clearly identified by the information available about the human remains and associated funerary objects described in this notice.

Determinations

UTK and TDEC-DOA have determined that:

• The human remains described in this notice represent the physical remains of 18 individuals of Native American ancestry.

• The 102 objects described in this notice are reasonably believed to have been placed intentionally with or near individual human remains at the time of death or later as part of the death rite or ceremony.

• There is a connection between the human remains and associated funerary objects described in this notice and the Cherokee Nation; Eastern Band of Cherokee Indians; Poarch Band of Creek Indians; The Chickasaw Nation; and The Muscogee (Creek) Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 19, 2024. If competing requests for repatriation are received, UTK and TDEC-DOA must determine the most appropriate requestor prior to repatriation. Requests for joint repatriation of the human remains and associated funerary objects are considered a single request and not competing requests. UTK and TDEC-DOA are responsible for sending a copy of this notice to the Indian Tribes and Native Hawaiian organizations identified in this notice.

Authority: Native American Graves Protection and Repatriation Act, 25 U.S.C. 3003, and the implementing regulations, 43 CFR 10.10.

Dated: July 10, 2024.
Melanie O'Brien,
Manager, National NAGPRA Program.

[FR Doc. 2024-15830 Filed 7-17-24; 8:45 am]

BILLING CODE 4312-52-P